DEPARTMENT OF DEFENSE

GENERAL SERVICES ADMINISTRATION

NATIONAL AERONAUTICS AND SPACE ADMINISTRATION

48 CFR Parts 4, 8, 17, 37, and 52

[FAR Case 2010-010; Docket 2010-0010, Sequence 1]

RIN 9000-AM06

Federal Acquisition Regulation; Service Contracts Reporting Requirements; Correction

AGENCY: Department of Defense (DoD), General Services Administration (GSA), and National Aeronautics and Space Administration (NASA).

ACTION: Proposed rule; correction.

SUMMARY: This document corrects the preamble to a proposed rule published in the Federal Register of April 20, 2011, regarding Service Contracts Reporting Requirements. This document adds text that was inadvertently omitted.

DATES: Effective Date: April 20, 2011.

FOR FURTHER INFORMATION CONTACT: Ms. Clare McFadden, Procurement Analyst, at (202) 501-0044. Please cite FAR Case 2010-010.

Correction

In the proposed rule FR Doc. 2011-9515, beginning on page 22070 in the issue of April 20, 2011, make the following correction, in the SUPPLEMENTARY INFORMATION, I. Background section. On page 22071 in the second column, add after the first full paragraph the following:

“Specifically, the proposed FAR section 4.1603 establishes service contractor reporting requirements based on type of contract and dollar amount as stated below:

• Contract types (e.g., cost-reimbursement, time-and-materials, and labor-hour contracts) that already require contractors to track labor hours closely in order to invoice the Government will have lower dollar thresholds than fixed-price contracts, where this information has not been required historically. Contractors will be required to report on all cost-reimbursement, time-and-materials, and labor-hour contracts at or above the simplified acquisition threshold (SAT).

• Contractors will be required to report on new fixed-price contracts at or above the President's Fiscal Year 2011 Budget's proposed phase-in thresholds—

○ $5 million in Fiscal Year 2011;

○ $2.5 million in Fiscal Year 2012;

○ $1 million in Fiscal Year 2013; and

○ $500,000 from Fiscal Year 2014 onwards.

• For indefinite-delivery contracts, including but not limited to, indefinite-delivery indefinite-quantity (IDIQ) contracts, Federal Supply Schedule (FSS) contracts, Governmentwide Acquisition contracts (GWACs), and multi-agency contracts, reporting requirements will be determined based on the expected dollar amount and type of the orders issued under the contracts.

• Existing indefinite-delivery contracts will be bilaterally modified within six months of the effective date of the final rule if sufficient time and value remain on the base contract, which is defined as—

1. A performance period that extends beyond October 1, 2011; and

2. $5 million or more remaining to be obligated to the indefinite-delivery contract.

The threshold for existing indefinite-delivery contracts is consistent with the threshold for new fixed-price contracts.”

Dated: April 27, 2011.
Millisa Gary,
Acting Director, Office of Governmentwide Acquisition Policy.

[FR Doc. 2011-10590 Filed 4-29-11; 8:45 am]

BILLING CODE 6820-EP-P